DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Adult Treatment Court Collaborative Program Evaluation—NEW

The Substance Abuse and Mental Health Services Administration's (SAMHSA), Center for Mental Health Services (CMHS) and Center for Substance Abuse Treatment (CSAT) have jointly implemented the Adult Treatment Court Collaborative (ATCC) Program. SAMHSA launched the ATCC program in 2011 form new collaborations between specialty courts and treatment systems to effect community-level systems transformation and establish networks that expand access to treatment among those involved in the criminal justice system. CMHS and CSAT are requesting approval from the Office of Management and Budget (OMB) to implement data collection activities to determine the degree to which grantees individually and collectively meet the goals of the program, including the impact of program activities on systems and clients. The current proposal requests the implementation of new data collection efforts to support the Evaluation of the ATCC Program. Three sets of data collection activities are proposed, for a total of six instruments. Specifically it requests:

1. Adding “Supplemental Client” measures to gather client level data on program participants at baseline and six-month follow-up to assess client outcomes and better compare and contrast programs based on characteristics. The annual baseline data are collected on new individuals admitted to the program. The proposed measures include:

a. Questions about housing stability, one about recentcy of homelessness and the number of days homeless in the past 6 months. Administered at baseline only.

b. Questions about lifetime incidence of arrests and incarceration, including total time spent in jail/prison and prior experience with specialty courts. Administered at baseline only.

c. Treatment History for mental health and substance use disorders. Administered at baseline only.

d. Questions on trauma events to document adult, childhood, and recent trauma. Lifetime questions administered at baseline only and recent at six month.

e. Questions on trauma symptoms using the Post-Traumatic Disorder Checklist—Civilian (PCL-C) to document trauma diagnosis and change over time. Administered at baseline and six month.

f. Questions on mental health symptoms using the Brief Symptom Inventory-18 (BSI-18) to document mental health diagnosis and change over time. Administered at baseline and six month.

g. Questions on procedural justice and perceptions of fairness by program clients. Administered at six month only.

h. Questions about behavioral health treatment services to document service receipt. Administered at six month only.

2. Adding three instruments to collect record review data from Grantees.

a. Screening/Eligibility—Information on individuals referred to the program for screening/eligibility determination, client diagnosis, and the outcome of the screen (eligible/not eligible), to determine the scope of individuals considered for the program.

b. Program Participation/Service Referral—Information on the treatment/service referrals made to clients enrolled in the programs, to determine the range and scope of services provided in the program network, as well discharge data to determine the conditions under which clients complete the programs.

c. Information on the arrests in the 12-months pre- and post-program entry, including the nature of the arrest, to document recidivism.

3. Adding the Collaborative Survey to gather information on collaboration and program implementation from key project stakeholders. This instrument will be administered once annually, to five to eight stakeholders in each project site. This tool has sections of the questions tailored to address the respondents' specific roles in the grant program (e.g. project directors, judges, clinicians) and includes an assessment of the activities of the collaborative.

The following tables summarize the burden for data collection.

CY 2013 Annual Reporting Burden
Data collection activity | Number of respondents | Responses per respondent | Total responses | Average hours per response | Total hour burden
Supplemental Client Interviews
Baseline (at enrollment) | 624 | 1 | 624 | 0.25 | 156
6 months | 499 | 1 | 499 | 0.25 | 125
Sub Total | 624 |  | 1,123 |  | 281
Collaborative Survey | 77 | 1 | 77 | 1 | 77
Record Management
Secondary Data—(Screening/admission) ³ | 11 | 489 | 5,382 | 0.25 | 1,346
Secondary Data—(Arrest data) ³ | 11 | 40 | 440 | 0.25 | 110
Secondary Data—(Participation/service use) | 11 | 57 | 627 | 0.25 | 157
Sub Total | 11 | 586 | 6,449 |  | 1,613
Overall Total | 712 |  | 7,649 |  | 1,971

CY 2014 Annual Reporting Burden
Data collection activity | Number of respondents | Responses per respondent | Total responses | Average hours per response | Total hour burden
Supplemental Client Interviews
Baseline (at enrollment) | 682 | 1 | 682 | 0.25 | 171
6 months | 546 | 1 | 546 | 0.25 | 137
Sub Total | 682 |  | 1,228 |  | 308
Collaborative Survey | 77 | 1 | 77 | 1 | 77
Record Management
Secondary Data—(Screening/admission) | 11 | 489 | 5,379 | 0.25 | 1,345
Secondary Data—(Arrest data) | 11 | 45 | 495 | 0.25 | 124
Secondary Data—(Participation/service use) | 11 | 57 | 627 | 0.25 | 157
Sub Total | 11 | 586 | 6,501 |  | 1,625
Overall Total | 770 |  | 7,806 |  | 2,011

CY 2015 Annual Reporting Burden
Data collection activity | Number of respondents | Responses per respondent | Total responses | Average hours per response | Total hour burden
Supplemental Client Interviews
Baseline (at enrollment) | 682 | 1 | 682 | 0.25 | 171
6 months | 546 | 1 | 546 | 0.25 | 137
Sub Total | 682 |  | 1,228 |  | 308
Collaborative Survey | 77 | 1 | 77 | 1 | 77
Record Management
Secondary Data—(Screening/admission) | 11 | 489 | 5379 | 0.25 | 1,345
Secondary Data—(Arrest data) | 11 | 45 | 495 | 0.25 | 124
Secondary Data—(Participation/service use) | 11 | 57 | 627 | 0.25 | 157
Sub Total | 11 | 586 | 6,501 |  | 1,625
Overall Total | 770 |  | 7,806 |  | 2,011

Total Annualized Burden
Data collection activity | Annualized number of respondents | Annualized total responses | Annualized total hour burden
Supplemental Client Interviews
Baseline | 662 | 662 | 166
6 month | 530 | 530 | 133
Sub-total | 662 | 1192 | 299
Collaborative Survey | 77 | 77 | 77
Record Management
Screening Data | 11 | 5,382 | 1,346
Arrests | 11 | 477 | 119
Program Participation | 11 | 627 | 157
Sub-total | 11 | 6,486 | 1,622
Total Annualized | 750 | 7,755 | 1,998

Send comments to Summer King, SAMHSA Reports Clearance Officer, Room 2-1057, One Choke Cherry Road, Rockville, MD 20857 or email her a copy at summer.king@samhsa.hhs.gov. Written comments should be received within 60 days of this notice.

Summer King,
Statistician.

[FR Doc. 2012-20287 Filed 8-17-12; 8:45 am]

BILLING CODE 4162-20-P